ENVIRONMENTAL PROTECTION AGENCY

[FRL-9471-6]

Farm, Ranch, and Rural Communities Committee

AGENCY: Environmental Protection Agency (EPA).

ACTION: Notice of meeting.

SUMMARY: Under the Federal Advisory Committee Act, Public Law 92-463, EPA gives notice of a meeting of the Farm, Ranch, and Rural Communities Committee (FRRCC). The FRRCC is a policy-oriented committee that provides policy advice, information, and recommendations to the EPA Administrator on a range of environmental issues and policies that are of importance to agriculture and rural communities.

The purpose of this meeting is to advance discussion of specific topics of unique relevance to agriculture such as effective approaches to addressing water quality issues associated with agricultural production, in such a way as to provide thoughtful advice and useful insights to the Agency as it crafts environmental policies and programs that affect and engage agriculture and rural communities. A copy of the meeting agenda will be posted at http://epa.gov/ofacmo/frrcc/meetings.htm.

DATES: The Farm, Ranch, and Rural Communities Committee will hold an open meeting on Wednesday, October 26, 2011 from 8:30 a.m. (registration at 8 a.m.) until 6 p.m. Eastern Daylight Time, and on Thursday, October 27, 2011 from 8:30 a.m. (registration at 8 a.m.) until 2 p.m. Eastern Daylight Time.

ADDRESSES: The meeting will be held at the Sheraton National Hotel, 900 South Orme Street, Arlington, VA 22204, Telephone: (703) 521-1900. The meeting is open to the public, with limited seating on a first-come, first-served basis.

FOR FURTHER INFORMATION CONTACT: Alicia Kaiser, Designated Federal Officer, kaiser.alicia@epa.gov, 202-564-7273, US EPA, Office of the Administrator (1101A), 1200 Pennsylvania Avenue, NW., Washington, DC 20460.

SUPPLEMENTARY INFORMATION: Requests to make brief oral comments or provide written statements to the FRRCC should be sent to Alicia Kaiser, Designated Federal Officer, at the contact information above. All requests must be submitted no later than October 19, 2011.

Meeting Access: For information on access or services for individuals with disabilities, please contact Alicia Kaiser at 202-564-7273 or kaiser.alicia@epa.gov. To request accommodation of a disability, please contact Alicia Kaiser, preferably at least 10 days prior to the meeting, to give EPA as much time as possible to process your request.

Dated: September 19, 2011.
Alicia Kaiser,
Designated Federal Officer.

[FR Doc. 2011-24638 Filed 9-23-11; 8:45 am]

BILLING CODE 6560-50-P